FEDERAL COMMUNICATIONS COMMISSION

47 CFR Part 73

[DA 05-1717; MB Docket No. 05-82, RM-11170; MB Docket No. 05-83, RM-11171; MB Docket No. 05-84, RM-11172]

Radio Broadcasting Services; Coosada, Livingston, and Rockford, AL

AGENCY: Federal Communications Commission.

ACTION: Final rule.

SUMMARY: In response to a multi-docket Notice of Proposed Rulemaking, 70 FR 13002 (March 17, 2005), this Report and Order allots new FM channels in three Alabama communities, including Coosada, Livingston, and Rockford, Alabama. The Audio Division, at the request of Tempest Communications, allots Channel 226A at Coosada, Alabama. as the community's first local aural transmission service. Channel 226A can be allotted to Coosada in compliance with the Commission's technical requirements with a site restriction of 4.3 kilometers (2.7 miles) east of Coosada. The reference coordinates for Channel 226A at Coosada are 32-30-02 North Latitude and 86-17-09 West Longitude. See Supplementary Information, infra.

DATES: Effective August 8, 2005. The window period for filing applications for these allotments will not be opened at this time. Instead, the issue of opening these allotments for auction will be addressed by the Commission in a subsequent order.

ADDRESSES: Federal Communications Commission, 445 Twelfth Street, SW., Washington, DC 20554.

FOR FURTHER INFORMATION CONTACT: R. Barthen Gorman, Media Bureau, (202) 418-2180.

SUPPLEMENTARY INFORMATION: This is a synopsis of the Commission's Report and Order, MB Docket Nos. 05-82, 05-83, and 05-84, adopted June 22, 2005 and released June 24, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

The Audio Division, at the request of Sumter County Broadcasting, allots Channel 242A at Livingston, Alabama, as the community's first local aural transmission service. Channel 242A can be allotted to Livingston in compliance with the Commission's technical requirements with a site restriction of 2.3 kilometers (1.4 miles) northeast of Livingston. The reference coordinates for Channel 242A at Livingston are 32-35-36 North Latitude and 88-09-57 West Longitude.

The Audio Division, at the request of Alatron Corporation, Inc., allots Channel 286A at Rockford, Alabama, as the community's first local aural transmission service. Channel 286A can be allotted to Rockford in compliance with the Commission's technical requirements with a site restriction of 11.3 kilometers (7.0 miles) east of Rockford. The reference coordinates for Channel 286A at Rockford are 32-52-15 North Latitude and 85-06-04 West Longitude.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Alabama, is amended by adding Coosada, Channel 226A; Livingston, Channel 242A; and Rockford, Channel 286A.

Federal Communications Commission.
John A. Karousos,
Assistant Chief, Audio Division, Media Bureau.

[FR Doc. 05-13566 Filed 7-12-05; 8:45 am]

BILLING CODE 6712-01-P